DEPARTMENT OF EDUCATION

Closed Meeting of the National Advisory Council on Indian Education

AGENCY: National Advisory Council on Indian Education (NACIE), U.S. Department of Education.

ACTION: Notice of Closed Meeting.

SUMMARY: This notice sets forth the schedule and proposed agenda of an upcoming closed meeting of the National Advisory Council on Indian Education (the Council) and is intended to notify the general public. This notice also describes the functions of the Council. Notice of the Council's meetings is required under Section 10(a)(2) of the Federal Advisory Committee Act and by the Council's charter.

Agenda: The Council will meet in a closed teleconference session to the discuss personnel issues related to the selection of the Director for the U.S. Department of Education, Office of Indian Education. The Council is likely to disclose information of a personal nature where disclosure would constitute a clearly unwarranted invasion of personnel privacy. The discussion must therefore be held in closed session under exemptions 2 and 6 of the Government in the Sunshine Act, 5 U.S.C. 552b(c)(2) and (6).g.

Date and Time: June 22, 2006; 1 p.m. to 3:30 p.m.

Location: U.S. Department of Education, 400 Maryland Avenue, SW., Washington, DC 20202.

FOR FURTHER INFORMATION CONTACT: Bernard Garcia, Group Leader, Office of Indian Education, U.S. Department of Education, 400 Maryland Avenue, SW., Washington, DC 20202. Telephone: 202-260-1454. Fax: 202-260-7779.

SUPPLEMENTARY INFORMATION: The Council advises the Secretary of Education on the funding and administration (including the development of regulations, and administrative policies and practices) of any program over which the Secretary has jurisdiction and includes Indian children or adults as participants or programs that may benefit Indian children or adults, including any program established under Title VII, Part A of the ESEA.

The Council makes recommendations to the Secretary for filling the position of the Director of Indian Education whenever a vacancy occurs.

Records are kept of all Council proceedings and are available for public inspection at the Office of Indian Education, Untied States Department of Education, Room 5C141, 400 Maryland Avenue, SW., Washington, DC 20202.

[FR Doc. 06-5528 Filed 6-16-06; 8:45 am]

BILLING CODE 4000-01-M